DEPARTMENT OF COMMERCE

National Oceanic and Atmospheric Administration

50 CFR Part 660

[Docket No. 040617187-4187-01; I.D. 060704H]

RIN 0648-AR85

Fisheries Off West Coast States and in the Western Pacific; Western Pacific Bottomfish Fishery; Fishing Moratorium

AGENCY: National Marine Fisheries Service, National Oceanic and Atmospheric Administration (NOAA), Commerce.

ACTION: Proposed rule; request for comments.

SUMMARY: NMFS proposes to extend the current moratorium on harvesting seamount groundfish from the Hancock Seamount in the Northwestern Hawaiian Islands (NWHI) for 6 years, until August 31, 2010. The fishery has been under a moratorium since 1986. This action is being taken in response to a recommendation by the Western Pacific Fishery Management Council from its Bottomfish Plan Team (Plan Team) and Scientific and Statistical Committee (SSC) that revealed that pelagic armorhead (Pseudopentaceros wheeleri; formerly, Pentaceros richardsoni), an overfished stock, has not recovered. The intent of this action is to allow the protection provided for this resource to continue.

DATES: Comments must be submitted by July 12, 2004.

ADDRESSES: You may submit comments on this proposed rule by any of the following methods:

•E-mail: 0648-AR85.PIR@noaa.gov. Include in the subject line of the e-mail comment the following document identifier: 0648-AR85.

•Federal e-Rulemaking portal: http://www.regulations.gov Follow the instructions for submitting comments.

•Mail: William L. Robinson, Regional Administrator, Pacific Islands Region, NOAA Fisheries, 1601 Kapiolani Boulevard, Suite 1110, Honolulu, HI 96814.

•Fax: (808) 973-2941.

FOR FURTHER INFORMATION CONTACT: Mr. Lewis Van Fossen, Resource Management Specialist, Sustainable Fisheries Division 808-973-2937.

SUPPLEMENTARY INFORMATION: When the Fishery Management Plan for the Bottomfish and Seamount Groundfish Fisheries of the Western Pacific Region (FMP) was implemented (51 FR 27413, July 31, 1986), it was determined that a 6-year moratorium on fishing at Hancock Seamount was needed to aid the recovery of the pelagic armorhead (Pseudopentaceros wheeleri; formerly, Pentaceros richrdsoni). Foreign vessels over-exploited the seamount groundfish resources before the Fishery Conservation and Management Act (Magnuson-Stevens Act) was enacted. There has never been a domestic fishery targeting these stocks. Periodic reviews since the original moratorium indicated that no recovery of the stock has occurred. Therefore, the moratorium was extended twice in 6-year increments in 1992 and 1998 (57 FR 36907, August 17, 1992; and 63 FR 35162, June 29, 1998; respectively).

The last U.S. research cruise of the Hancock Seamount was conducted in 1993. However, the Japanese trawl fleet continues to harvest pelagic armorhead on neighboring seamounts outside of the U.S. exclusive economic zone (U.S. EEZ) surrounding the NWHI. According to information provided by the Japan National Research Institute of Far Seas Fisheries, the most current (2002) spawning potential ratio (SPR) for the armorhead stock is 0.1 percent at all seamounts outside of the U.S. EEZ. These seamounts comprise 95 percent of the trawl grounds for the Japanese trawl fishery. Based on the low SPR value, it is inferred that the status of the Hancock Seamount is similarly depressed and well under the current 20 percent SPR definition of an overfished stock. At its October 2003 meeting the Council heard reports from its Plan Team and SSC on the status of the seamount groundfish resources. On the basis of those reports, and in accordance with the framework at 50 CFR 660.67, the Council recommended a permanent closure of the Hancock Seamount to the harvest of groundfish resources. However, it is unlikely that an amendment to the FMP permanently closing Hancock Seamount to the harvesting of groundfish resources could be completed before the current moratorium expires on August 31, 2004. Therefore, at its March 2004 meeting, the Council recommended extending the current moratorium another 6 years (i.e., August 31, 2010). During the proposed moratorium an amendment to the FMP that would permanently close Hancock Seamount could be developed.

Classification

This proposed rule has been determined to be not significant for the purposes of E.O. 12866.

The Chief Counsel for Regulation of the Department of Commerce certified to the Chief Counsel for Advocacy of the Small Business Administration that this proposed rule, if adopted, would not have a significant economic impact on a substantial number of small entities as follows:

The purpose of the proposed action is to enhance the recovery of a stock as overfished under the Magnuson-Stevens Act by extending the moratorium on the harvest of groundfish resources at Hancock Seamount in the U.S. EEZ around the NWHI for six years. This extension will enhance the likelihood of recovery for the pelagic armorhead (Pseudopentaceros wheeleri; formerly, Pentaceros richardsoni). Because there has never been a U.S. fishery targeting seamount groundfish stocks on the Hancock Seamount, no U.S. interests or small entities would be immediately affected. It is unlikely that any U.S. fishermen would show an interest in starting a U.S. fishery for pelagic armorhead. There is a remote possibility that a vessel employing bottom trawl gear or demersal longline gear would show an interest in groundfish resources at Hancock Seamount. However, it is unlikely that such an effort would be ultimately profitable. Any profitability would be short-lived and, definitely, to the detriment of the resource. Use of bottom trawl gear for groundfish resources is prohibited under the current FMP. Therefore, there are no vessels so-equipped in Hawaii, and any trawl vessel targeting pelagic armorhead would need to transit from the western U.S. or Alaska or equip in Hawaii. It is unlikely that the investment in gear and fuel would be worth the likely returns on a short-lived fishery. Demersal longline fishing for pelagic armorhead would be ultimately unattractive for the same reasons as bottom trawl fishing.

As a result, an Initial Regulatory Flexibility Analysis was not prepared.

List of Subjects in 50 CFR Part 660

Administrative practice and procedure, American Samoa, Fisheries, Fishing, Guam, Hawaiian Natives, Indians, Northern Mariana Islands, Reporting and recordkeeping requirements.

Dated: June 21, 2004.
William T. Hogarth,
Assistant Administrator for Fisheries, National Marine Fisheries Service.

For the reasons set out in the preamble, 50 CFR part 660 is proposed to be amended as follows:

PART 660—FISHERIES OFF WEST COAST STATES AND IN THE WESTERN PACIFIC

1. The authority citation for part 660 continues to read as follows:

Authority: 16 U.S.C. 1801 et seq.

2. Section 660.68 is revised to read as follows:

§ 660.68 Fishing moratorium on Hancock Seamount.

Fishing for bottomfish and seamount groundfish on the Hancock Seamount is prohibited through August 31, 2010.

[FR Doc. 04-14472 Filed 6-24-04; 8:45 am]

BILLING CODE 3510-22-S